DEPARTMENT OF JUSTICE

Office of Justice Programs

[OJP (OVC) Docket No. 1636]

Meeting of the National Coordination Committee on the AI/AN SANE—SART Initiative

AGENCY: Office for Victims of Crime, Justice.

ACTION: Notice of meeting.

SUMMARY: The National Coordination Committee on the American Indian/Alaska Native (AI/AN) Sexual Assault Nurse Examiner (SANE)—Sexual Assault Response Team (SART) Initiative (“National Coordination Committee” or “Committee”) will meet to carry out its mission to provide valuable advice to assist the Office for Victims of Crime (OVC) to promote culturally relevant, victim-centered responses to sexual violence within AI/AN communities.

DATES: The meeting will be held via webinar on Tuesday, November 19, 2013. The start time and additional agenda information will be sent upon registration.

ADDRESSES: The webinar is open to the public for observation and participation. OVC anticipates that there will be fifteen minutes of time at the end of the webinar designated for the public to speak. Additionally, the public may submit comments to Kathleen Gless, the Designated Federal Official (DFO) for the Committee. The number of people who may participate via webinar is limited, and registration is required for participation. To register for the webinar, please provide your full contact information to Kathleen Gless (contact information below).

FOR FURTHER INFORMATION CONTACT: Kathleen Gless, Designated Federal Officer (DFO) for the National Coordination Committee, Office for Victims of Crime, Office of Justice Programs, 810 7th Street NW., Washington, DC 20531; Phone: (202) 307-6049 [note: this is not a toll-free number]; Email: kathleen.gless@usdoj.gov.

SUPPLEMENTARY INFORMATION: The National Coordination Committee on the American Indian/Alaskan Native (AI/AN) Sexual Assault Nurse Examiner (SANE)- Sexual Assault Response Team (SART) Initiative (“National Coordination Committee” or “Committee”) was established by the Attorney General to provide valuable advice to OVC to encourage the coordination of federal, tribal, state, and local efforts to assist victims of sexual violence within AI/AN communities, and to promote culturally relevant, victim-centered responses to sexual violence within those communities.

Webinar Agenda: The agenda will include: (a) Traditional welcome and introductions; (b) remarks from the Acting Director of OVC; (c) updates on OVC, FBI and IHS efforts since the April 17, 2013 Committee meeting via webinar; (d) Committee review and discussion of its proposed recommendations to the U.S. Attorney General; (e) discussion regarding whether the recommendations and supporting context language should be submitted to the U.S. Attorney General; and (f) a traditional closing.

Kathleen Gless,
Victim Justice Program Specialist, AI/AN SANE-SART Lead, Designated Federal Official—National Coordination Committee, Office for Victims of Crime.

[FR Doc. 2013-25022 Filed 10-23-13; 8:45 am]

BILLING CODE 4410-18-P